ENVIRONMENTAL PROTECTION AGENCY

[EPA-HQ-OECA-2014-0025; FRL-9982-51-OAR]

Proposed Information Collection Request; Comment Request; National Emission Standards for Hazardous Air Pollutants for Asbestos (40 CFR Part 61, Subpart M) (Renewal)

AGENCY: Environmental Protection Agency (EPA).

ACTION: Notice.

SUMMARY: The Environmental Protection Agency (EPA) is planning to submit an information collection request (ICR), “National Emission Standard for Hazardous Air Pollutants (NESHAP) for Asbestos (40 CFR part 61, subpart M) (Renewal)” (EPA ICR No. 0111.15, OMB Control No. 2060-0101) to the Office of Management and Budget (OMB) for review and approval in accordance with the Paperwork Reduction Act (PRA). Before doing so, the EPA is soliciting public comments on specific aspects of the proposed information collection as described below. This is a second notice requesting comment on the proposed extension of the ICR, which is currently approved through March 31, 2019. The burden in this notice includes changes in reporting and recordkeeping resulting from a recent action on an alternative work practice and a planned change to allow electronic reporting for notifications. An Agency may not conduct or sponsor and a person is not required to respond to a collection of information unless it displays a currently valid OMB control number.

DATES: Comments must be submitted on or before November 26, 2018.

ADDRESSES: Submit your comments, referencing Docket ID No. EPA-HQ-OECA-2014-0025 online using https://www.regulations.gov (our preferred method), by email to: docket.oeca@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI), or other information whose disclosure is restricted by statute.

FOR FURTHER INFORMATION CONTACT: Susan Fairchild, Sector Policies and Programs Division (Mail Code D243-02), Office of Air Quality Planning and Standards, U.S. Environmental Protection Agency, Research Triangle Park, North Carolina 27711; telephone number: (919) 541-5167; fax number: (919) 541-4991; email address: Fairchild.susan@epa.gov.

SUPPLEMENTARY INFORMATION: Supporting documents which explain in detail the information that the EPA will be collecting are available in the public docket for this ICR. The docket can be viewed online at https://www.regulations.gov or in person at the EPA Docket Center, EPA WJC West Building, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: For the Asbestos NESHAP ICR, owners and operators of affected facilities are required to comply with reporting and recordkeeping requirements for the general provisions of 40 CFR part 61, subpart M, as well as the applicable specific standards. This includes submitting initial notifications, performance tests, and periodic reports and results, maintaining records of the occurrence and duration of any startup, shutdown, or malfunction in the operation of an affected facility, or any period during which the monitoring system is inoperative. These reports are used by the EPA to determine compliance with the standard.

Form Numbers: None.

Respondents/affected entities: Owners/operators of demolition and renovation activities; asbestos waste disposal; asbestos milling, manufacturing, and fabricating facilities; use of asbestos on roadways; asbestos waste converting facilities; and use of asbestos insulation and sprayed-on materials.

Respondent's obligation to respond: Mandatory (40 CFR part 61, subpart M).

Estimated number of respondents: 9,575 (total).

Frequency of response: Initially, occasionally, quarterly, and semiannually.

Total estimated burden: 261,000 hours (per year). Burden is defined at 5 CFR 1320.03(b).

Total estimated cost: $26,300,000, includes no annualized capital or operation and maintenance costs.

Changes in Estimates: The burden in this document includes changes in reporting and recordkeeping resulting from a recent action on an alternative work practice and a planned change to allow electronic reporting for notifications. There is a decrease of 30,778 hours in the total estimated respondent burden compared with the ICR currently approved by OMB. This decrease is due to the movement from notifications submitted only through the U.S. mail to electronic notifications.

Dated: August 16, 2018.
David Cozzie,
Acting Director, Sector Policies and Programs Division.

[FR Doc. 2018-20879 Filed 9-25-18; 8:45 am]

BILLING CODE 6560-50-P